DEPARTMENT OF COMMERCE

International Trade Administration

[Application No. 92-10A001]

Export Trade Certificate of Review

ACTION: Notice of issuance of an Export Trade Certificate of Review to Aerospace Industries of America (“AIA”) (Application No. 92-10A001).

SUMMARY: The U.S. Department of Commerce issued an amended Export Trade Certificate of Review to Aerospace Industries of America on September 27, 2011. The Certificate has been amended ten times. The previous amendment was issued to AIA on November 29, 2010, and a notice of its issuance was published in the Federal Register on December 7, 2010 (75 FR 75963). The original Export Trade Certificate of Review No. 92-0001 was issued on April 10, 1992, and published in the Federal Register on April 17, 1992 (57 FR 13707).

FOR FURTHER INFORMATION CONTACT: Joseph E. Flynn, Director, Office of Competition and Economic Analysis, International Trade Administration, by telephone at (202) 482-5131 (this is not a toll-free number) or email at etca@trade.gov.

SUPPLEMENTARY INFORMATION: Title III of the Export Trading Company Act of 1982 (15 U.S.C. Sections 4001-21) authorizes the Secretary of Commerce to issue Export Trade Certificates of Review. The regulations implementing Title III are found at 15 CFR Part 325 (2010). The U.S. Department of Commerce, International Trade Administration, Office of Competition and Economic Analysis (“OCEA”) is issuing this notice pursuant to 15 CFR 325.6(b), which requires the Secretary of Commerce to publish a summary of the issuance in the Federal Register. Under Section 305(a) of the Export Trading Company Act (15 U.S.C. 4012(b)(1)) and 15 CFR 325.11(a), any person aggrieved by the Secretary's determination may, within 30 days of the date of this notice, bring an action in any appropriate district court of the United States to set aside the determination on the ground that the determination is erroneous.

Description of Certified Conduct

AIA's Export Trade Certificate of Review has been amended to:

1. Add the following new “Members” of the Certificate within the meaning of section 325.2(1) of the Regulations (15 CFR 325.2(1)):

Aero-Mark, LLC (Ontario, CA); Aero Vironment, Inc (Monrovia, CA); AGC Aerospace & Defense (Oklahoma City, OK); AlliedBarton Security Services LLC (Conshohocken, PA); Castle Metals Aerospace (Oakbrook, IL); CERTON Software, Inc (Melbourne, FL); CIRCOR International, Inc. (Burlington, MA); Colt Defense, LLC (West Hartford, CT); Comtech AreoAstro, Inc. (Ashburn, VA); Crown Consulting, Inc. (Arlington, VA); Cubic Defense Applications, Inc. (San Diego, CA); DigitialGlobe, Inc. (Longmont, CO); Galactic Venutres, LLC (Las Cruces, NM); Gentex Corporation (Zeeland, MI); HCL America Inc. (Sunnyvale, VA); Hi-Shear Technology Corporation (Torrance, CA); Hydra Electric Company (Burbank, CA); IEC Electronics Corporation (Newark, NJ); Infotech Enterprises America Inc. (East Hartford, CT); Kemet Electronics Corporation (Simpsonville, SC); Metron Aviation (Dulles, VA); O'Neil & Associates, Inc. (Miamisburg, OH); NobleTek (Wooster, OH); Parametric Technology Corporation (Needham, MA); PARTsolutions, LLC (Milford, OH); Qwaltec, Inc. (Tempe, AZ); RAF Tabtronics LLC (Deland, FL); Realization Technologies, Inc (San Jose, CA); Rhinestahl Corportation (Mason, OH); Rix Industries (Benecia, CA); Sanima-SCI Corporation (San Jose, CA); Satiar USA Inc. (Atlanta, GA); SCB Training Inc. (Santa Fe Springs, CA); SIFCO Industries, Inc. (Cleveland, OH); Sila Solutions Group (Tukwila, WA); The SI Organization, Inc. (King of Prussia, PA); Valent Aerostructures, LLC (Kansas City, MO); and Wesco Aircraft Hardware Corporation (Valencia, CA).

2. Change the names of the one Member and the location of another Member:

Timken Aerospace Transmissions LLC—Purdy Systems (Manchester, CT) is now called Timken Aerospace Transmissions, LLC; and Meggit Vibro-Meter Inc. has moved from Manchester, NH to Londonderry, NH.

The effective date of the amended certificate is September 27, 2011, the date on which AIA's application to amend was deemed submitted. A copy of the amended certificate will be kept in the International Trade Administration's Freedom of Information Records Inspection Facility, Room 4001, U.S. Department of Commerce, 14th Street and Constitution Avenue NW., Washington, DC 20230.

Dated: January 9, 2012.
Joseph Flynn,
Director, Office of Competition and Economic Analysis.

[FR Doc. 2012-523 Filed 1-12-12; 8:45 am]

BILLING CODE 3510-DR-P